DEPARTMENT OF COMMERCE

National Oceanic and Atmospheric Administration

RIN 0648-XD939

Marine Mammals; File No. 19526

AGENCY: National Marine Fisheries Service (NMFS), National Oceanic and Atmospheric Administration (NOAA), Commerce.

ACTION: Notice; receipt of application.

SUMMARY: Notice is hereby given that Adam White, BBC Natural History Unit, The Limes, Lea, Malmesbury Wiltshire, SN16 9PG United Kingdom, has applied in due form for a permit to conduct commercial or educational photography on four species of cetaceans and five species of pinnipeds.

DATES: Written, telefaxed, or email comments must be received on or before June 15, 2015.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 19526 in the subject line of the email comment.

Those individuals requesting a public hearing should submit a written request to the Chief, Permits and Conservation Division at the address listed above. The request should set forth the specific reasons why a hearing on this application would be appropriate.

FOR FURTHER INFORMATION CONTACT: Carrie Hubard or Jennifer Skidmore, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film a variety of marine mammals along the California coast from Point Año Nuevo south to the Channel Islands. A maximum of 1000 long-beaked common dolphins (Delphinus capensis), 1000 short-beaked common dolphins (Delphinus delphis), 1000 Risso's dolphins (Grampus griseus), 50 bottlenose dolphins (Tursiops truncatus), 50 harbor seals (Phoca vitulina), and 1000 California sea lions (Zalophus californianus) would be approached for filming. In addition, up to 200 Northern elephant seals (Mirounga angustirostris) would be filmed while hauled out on land. Fifty Steller sea lions (Eumetopias jubatus) and 50 Northern fur seals (Callorhinus ursinus) may be incidentally harassed and filmed during operations. Cetaceans would be filmed from boats and pole cameras. Pinnipeds would be filmed from boats, pole cameras, underwater divers, and while hauled out on land. Hydrophones would be used to record sounds. Footage would be used for a Big Blue Live television series examining marine issues and conservation successes along the coast of California. Filming would occur July through September 2015. The permit would be valid until September 30, 2015.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 8, 2015.
Julia Harrison,
Chief, Permits and Conservation Division, Office of Protected Resources, National Marine Fisheries Service.

[FR Doc. 2015-11753 Filed 5-14-15; 8:45 am]

BILLING CODE 3510-22-P